DEPARTMENT OF ENERGY

Federal Energy Regulatory Commission

Combined Notice of Filings #1

Take notice that the Commission received the following exempt wholesale generator filings:

Docket Numbers: EG21-53-000.

Applicants: Centerfield Cooper Solar, LLC.

Description: Self-Certification of Exempt Wholesale Generator of Centerfield Cooper Solar, LLC.

Filed Date: 12/14/20.

Accession Number: 20201214-5119.

Comments Due: 5 p.m. ET 1/4/21.

Take notice that the Commission received the following electric rate filings:

Docket Numbers: ER10-2042-035; ER10-1944-008; ER10-2051-010; ER10-1942-027; ER17-696-015; ER14-2931-008; ER10-2043-010; ER10-2029-012; ER10-2041-010; ER18-1321-003; ER10-2040-010; ER20-1939-001; ER10-1938-030; ER10-2036-011; ER10-1934-029; ER10-1893-029; ER10-3051-034; ER10-2985-033; ER10-3049-034; ER10-1889-008; ER10-3260-010; ER10-1895-008; ER10-1870-008; ER11-4369-014; ER16-2218-014; ER10-1862-029; ER10-1858-008; ER13-1401-008; ER10-2044-010.

Applicants: Calpine Energy Services, L.P., Bethpage Energy Center 3, LLC, Calpine Bethlehem, LLC, Calpine Construction finance Co., L.P., Calpine Energy Solutions, LLC, Calpine Fore River Energy Center, LLC, Calpine Mid-Atlantic Generation, LLC, Calpine Mid-Atlantic Marketing, LLC, Calpine Mid Merit, LLC, Calpine Mid-Merit II, LLC, Calpine New Jersey Generation, LLC, Calpine Northeast Development, LLC, Calpine PowerAmerica—CA, LLC, Calpine Vineland Solar, LLC, CES Marketing IX, LLC, CES Marketing X, LLC, Champion Energy, LLC, Champion Energy Marketing LLC, Champion Energy Services, LLC, CPN Bethpage 3rd Turbine, Inc., Granite Ridge Energy, LLC, KIAC Partners,Nissequogue Cogen Partners, North American Power and Gas, LLC, North American Power Business, LLC, TBG Cogen Partners, Power Contract Financing, L.L.C., Westbrook Energy Center, LLC, Zion Energy LLC

Description: Response to November 13, 2020 Deficiency Letter of Calpine Corporation indirect subsidiaries et al.

Filed Date: 12/14/20.

Accession Number: 20201214-5134.

Comments Due: 5 p.m. ET 1/4/21.

Docket Numbers: ER12-162-030; ER10-2984-050; ER11-2044-036 ER13-1266-033; ER15-2211-030.

Applicants: Bishop Hill Energy II LLC, CalEnergy, LLC, Merrill Lynch Commodities, Inc., MidAmerican Energy Company, MidAmerican Energy Services, LLC.

Description: Central Region Triennial Market Power Analysis of Bishop Hill Energy II LLC, et al.

Filed Date: 12/11/20.

Accession Number: 20201211-5205.

Comments Due: 5 p.m. ET 2/9/21.

Docket Numbers: ER21-635-000.

Applicants: Portland General Electric Company.

Description: § 205(d) Rate Filing: PGE-BPA E&P Agreement to be effective 12/14/2020.

Filed Date: 12/11/20.

Accession Number: 20201211-5169.

Comments Due: 5 p.m. ET 1/4/21.

Docket Numbers: ER21-636-000.

Applicants: American Electric Power Service Corporation, Ohio Power Company, AEP Ohio Transmission Company, Inc., PJM Interconnection, L.L.C.

Description: § 205(d) Rate Filing: AEP submits Arlington FA re: ILDSA SA No. 1336 to be effective 2/10/2021.

Filed Date: 12/11/20.

Accession Number: 20201211-5178.

Comments Due: 5 p.m. ET 1/4/21.

Docket Numbers: ER21-637-000.

Applicants: Foxglove Wind LLC, Moonlite Wind 2 LLC.

Description: Request for Limited Waiver of Tariff Provisions, et al. of Foxglove Wind LLC, et al.

Filed Date: 12/11/20.

Accession Number: 20201211-5203.

Comments Due: 5 p.m. ET 12/21/21.

Docket Numbers: ER21-638-000.

Applicants: RWE Renewables Americas, LLC.

Description: Request for COVID-19 Related Waiver of Tariff Provisions, et al. of RWE Renewables Americas, LLC.

Filed Date: 12/11/20.

Accession Number: 20201211-5204.

Comments Due: 5 p.m. ET 12/21/21.

Docket Numbers: ER21-639-000.

Applicants: Wapello Solar LLC.

Description: Baseline eTariff Filing: Application for Market Based Rate Authority to be effective 12/17/2020.

Filed Date: 12/14/20.

Accession Number: 20201214-5056.

Comments Due: 5 p.m. ET 1/4/21.

Docket Numbers: ER21-640-000.

Applicants: ISO New England Inc., New England Power Pool Participants Committee.

Description: § 205(d) Rate Filing: ISO-NE & NEPOOL; Changes to Qualification of Energy Eff. Resources in the FCM to be effective 2/12/2021.

Filed Date: 12/14/20.

Accession Number: 20201214-5107.

Comments Due: 5 p.m. ET 1/4/21.

Docket Numbers: ER21-641-000.

Applicants: PJM Interconnection, L.L.C.

Description: Tariff Cancellation: Notice of Cancellation of ISA, SA No. 4519, Queue No. AA2-159 re: Withdrawal to be effective 1/15/2021.

Filed Date: 12/14/20.

Accession Number: 20201214-5114.

Comments Due: 5 p.m. ET 1/4/21.

Docket Numbers: ER21-643-000.

Applicants: Louisville Gas and Electric Company.

Description: § 205(d) Rate Filing: KYMEA Amended Wholesale Distribution Service Agreement No. 22 to be effective 12/15/2020.

Filed Date: 12/14/20.

Accession Number: 20201214-5133.

Comments Due: 5 p.m. ET 1/4/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2020.
Kimberly D. Bose,
Secretary.

[FR Doc. 2020-27935 Filed 12-17-20; 8:45 am]

BILLING CODE 6717-01-P